Title 3—

The President

Proclamation 8194 of October 23, 2007

United Nations Day, 2007

By the President of the United States

A Proclamation

After World War II, representatives from around the globe gathered to begin deliberations on a new international bill of rights. The document adopted by the General Assembly of the United Nations, the Universal Declaration of Human Rights, stands as a landmark achievement in the history of human liberty. On United Nations Day, we recognize the contributions of this important body and underscore our dedication to reforming the institution and advancing the high ideals on which it was founded.

Today, the United Nations must recommit itself to maintaining international security and helping solve economic, social, and humanitarian problems. This great institution must work for great purposes: to free people from tyranny and violence, hunger and disease, illiteracy and ignorance, and poverty and despair. With renewed commitment and courage, we can pursue the vision of the Universal Declaration and build a world where people are free to speak, assemble, and worship as they wish, and where opportunity crosses every border.

NOW, THEREFORE, I, GEORGE W. BUSH, President of the United States of America, by virtue of the authority vested in me by the Constitution and laws of the United States, do hereby proclaim October 24, 2007, as United Nations Day. I urge the Governors of the 50 States, the Governor of the Commonwealth of Puerto Rico, and the officials of other areas under the flag of the United States to observe United Nations Day with appropriate ceremonies and activities.

IN WITNESS WHEREOF, I have hereunto set my hand this twenty-third day of October, in the year of our Lord two thousand seven, and of the Independence of the United States of America the two hundred and thirty-second.

[FR Doc. 07-5334

Filed 10-24-07; 8:52 am]

Billing code 3195-01-P